DEPARTMENT OF DEFENSE

Department of the Army

Notice of Intent (NOI) to Prepare a Programmatic Environmental Impact Statement (PEIS) for Implementation of the Army Transformation Campaign Plan (ATCP)

AGENCY: Department of the Army, DoD.

ACTION: Notice of intent.

SUMMARY: The Department of the Army announces its intent to prepare a PEIS to identify and evaluate the environmental effects associated with implementation of the ATCP.

FOR FURTHER INFORMATION CONTACT: Lieutenant Colonel Mealer at (703) 614-5050.

SUPPLEMENTARY INFORMATION: The prospect of a rapidly changing and more turbulent, unpredictable, global security environment underscores the need for a high level of defense preparedness. To meet the challenges of a wider range of threats and a more complex set of operating environments, the United States will require a world class Army capable of rapid response and dominance across the entire spectrum of operations in a joint, interagency and multinational environment. Today's Army force structure and supporting systems were designed for a different era and enemy. They lack the capability to operate optimally across the full range of likely future operations. The Army's superb heavy forces are unequalled in their ability to gain and hold terrain in the most intense, direct fire combat imaginable; and, once deployed, they are the decisive element in major theater wars. The current heavy forces, however, are challenged to get to contingencies where we have not laid the deployment groundwork and, once deployed, these forces have a large logistical footprint. On the other hand, the Army's current light forces can strike quickly but once inserted lack survivability, lethality and tactical mobility. Therefore, to meet the defense challenges of the future and provide the National Command Authority the decisive landpower forces necessary to support the National Security Strategy and National Military Strategy, the Secretary of the Army and the Chief of Staff of the Army have articulated a clear Army Vision that includes transforming all aspects of the most respected Army in the world into a strategically responsive force that is dominant across the full spectrum of operations.

The Army will implement transformation as rapidly as possible, while continually maintaining the warfighting readiness of its operational forces and taking care of its people. The ATCP will be the mechanism used to integrate and synchronize the implementation of the Army Vision. Indeed, Army transformation has already begun with the establishment of the Initial Force at Fort Lewis, Washington. The Initial Force is a two-brigade combat team force that will transform and will receive off-the-shelf equipment to support evaluation and refinement of the doctrinal Organizational and Operational concepts. This will be followed by the Interim Force consisting of six to eight brigades. The Interim Force is a transition force—one that seeks the Objective Force state-of-the-art technology, but leverages today's technology together with modernized legacy forces as a bridge to the future. The Objective Force is the force that achieves our transformation objective. It is a future force that will be strategically responsive Army, capable of dominating at every point across the full spectrum of operations and which can rapidly transition across mission requirements without loss of momentum. It will be able to operate as an integral member of the joint, multinational, interagency team and will be dominant against the asymmetric application of conventional, unconventional and weapons of mass destruction threat capabilities.

The PEIS is being prepared to comply with the National Environmental Policy Act (NEPA) of 1969. Implementation of the ATCP, as envisioned, will be a major undertaking entailing a series of changes to equipment, force structure and training practices. When all the changes are proposed for specific sites and for equipment acquisition and testing, there will undoubtedly be a range of effects on the environment. The PEIS will inform the public, regulators, concerned groups and Army decision-makers about potential environmental concerns that should be factored into any final decisions to implement the ATCP. In addition, it will provide these groups with a meaningful opportunity to present their views on significant environmental issues and concerns to Army decision-makers.

Alternatives:

1. No Action Alternative: Whereby the ATCP would not be implemented and needed changes to Army equipment, force structure and training practices would be separately analyzed on a piecemeal basis.

2. Action Alternative 1: Whereby the program for transformation of the Army to better meet present and future national security requirements and fulfill the Army Vision would be initiated in accordance with the ATCP including:

a. A comparison of the likely environmental effects at candidate (alternative) sites for placement of the brigades planned for the Interim Force.

b. Identification and analysis of the types of major actions contained in the ATCP leading to the Objective Force and their associated activities and consequential types and magnitude of effects.

3. Action Alternative 2: Whereby the ATCP would only be partially implemented because of budgetary or other constraints.

Significant issues: The issues to be analyzed in this PEIS include noise, impacts to wetlands and riparian areas, soil erosion, air and water quality, endangered species, cultural resources and other issues.

Scoping: Comments received as a result of the NOI will be used to assist the Army in identifying potential impacts to the quality of human and natural environments. Individuals or organizations may participate in the scoping process by providing written comment by mail or by facsimile through the Scoping Page on the Army Homepage web site (www.army.mil). The time and location for scoping via the web site will be announced by public notice in the national news media. To be considered in the draft PEIS, comments and suggestions should be received no later than 30 days following activation of the Scoping Page. Questions regarding this PEIS may be directed to Headquarters, Department of the Army, ATTN: ODCSOPS (DAMO-FMF), 400 Army Pentagon, Washington, D.C. 20310-0400 or by facsimile transmission to (703) 614-3601.

Dated: December 11, 2000.
Raymond J. Fatz,
Deputy Assistant Secretary of the Army, (Environment, Safety and Occupational Health), OASA (I&E).

[FR Doc. 00-32000 Filed 12-14-00; 8:45 am]

BILLING CODE 3710-08-M